DEPARTMENT OF ENERGY

Federal Energy Regulatory Commission

[Docket No. CP98-131-004]

Vector Pipeline L.P.; Notice of Application to Amend Presidential Permit

March 12, 2001.

Take notice that on March 2, 2001, Vector Pipeline L.P. (Vector) filed in Docket No. CP98-131-004 an application, pursuant to Part 153 of the Commission's Regulations and Executive Order No. 10485, as amended by Executive Order 12038, seeking to amend the Presidential Permit issued to Vector by Commission Order dated May 27, 1999 ¹ in Docket No. CP98-131-000, to authorize and allow it to use its border facilities for both the importation and exportation of natural gas between the United States and Canada, all as more fully set forth in the application which is on file with the Commission and which is open to the public for inspection. The filing may be viewed at http://www.ferc.fed.us/online/rims.htm (call 202-208-2222 for assistance).

¹ Vector Pipeline L.P., 87 FERC ¶ 61,225.

The border facilities covered by the existing Presidential Permit consist of approximately 3,100 feet of 42-inch pipeline with a maximum capacity of 1 MMDth of gas located under the riverbed of the St. Clair River at the United States—Canada International Boundary (boundary). Vector's border facilities interconnect with Vector Canada, an affiliate, at the boundary, which is situated mid-point of the St. Clair River. Article 3 of this Presidential Permit only provides for the transportation of natural gas from the United States to Canada.

Vector states that due to market circumstances which exist, or may exist in the near term, shippers on its system would find it beneficial to move gas from Canada to the United States. Vector claims that the shippers could avail themselves of supplies that can be provided by Union Gas Ltd.'s large storage facility in Dawn, Ontario, in order to meet current and future market needs in the United States, including acting as third party storage providers consistent with the Commission's dictates in Order No. 637. Vector also states that no new facilities are to be constructed at the connections with the border facilities, thus there will be no change to the design capacity of the border facilities or the Vector mainline. Therefore, Vector requests an amendment to Article 3 of the outstanding Presidential Permit to allow such use.

Vector requests expeditious approval by the Commission to permit the requested bi-directional service so that its shippers can avail themselves of additional cross-border marketing opportunities in the near term.

Any questions regarding the application should be directed to Craig R. Fishbeck, President, 38705 Seven Mile Road, Suite 245, Livonia, Michigan, 48152, (734) 462-0233, and Kim M. Clark of John & Hengerer, 1200 17th Street, NW., Suite 600, Washington, DC 20036, (202) 429-8800.

There are two ways to become involved in the Commission's review of this project. First, any person wishing to obtain legal status by becoming a party to the proceedings for this project should, on or before April 2, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the internet in lieu of paper. See, 18 CFR 385.2001(a)(1)(iii) and the instructions on the Commission's web site at

http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-6521 Filed 3-15-01; 8:45 am]

BILLING CODE 6717-01-M